DEPARTMENT OF COMMERCE

Foreign-Trade Zones Board

[Docket 26-2004]

Foreign-Trade Zone 104—Savannah, GA, Application for Subzone, Tumi, Inc., (Distribution of Luggage), Vidalia, GA

An application has been submitted to the Foreign-Trade Zones Board (the Board) by the Savannah Airport Commission, grantee of FTZ 104, requesting special-purpose subzone status for the warehousing and distribution facility of Tumi, Inc. (Tumi), located in Vidalia, Georgia. The application was submitted pursuant to the provisions of the Foreign-Trade Zones Act, as amended (19 U.S.C. 81a-81u), and the regulations of the Board (15 CFR part 400). It was formally filed on June 16, 2004.

The Tumi facility (48 acres, 160 employees) is located at 2501 Matthews Industrial Circle, Vidalia, Toombs County. The facility is used for the storage and distribution of imported luggage, accessories and gifts (including handbags, wallets, bottle openers, ear muffs, handles/straps, belts, luggage tags, umbrellas, planners, mugs, key chains, pocket knives, flashlights, clock radios, watch bands, golf club covers and yoga mats).

Zone procedures would exempt Tumi from Customs duty payments on products that are re-exported. Some 10-15 percent of the products are re-exported. On its domestic sales, the company would be able to defer duty payments until merchandise is shipped from the plant and entered for consumption. FTZ designation would further allow Tumi to utilize certain Customs procedures resulting in increased efficiencies for its logistics and distribution operations. The request indicates that the savings from FTZ procedures would help improve the plant's international competitiveness.

In accordance with the Board's regulations, a member of the FTZ staff has been appointed examiner to investigate the application and report to the Board.

Public comment is invited from interested parties. Submissions (original and 3 copies) shall be addressed to the Board's Executive Secretary at one of the following addresses:

1. Submissions via Express/Package Delivery Services: Foreign-Trade-Zones Board, U.S. Department of Commerce, Franklin Court Building—Suite 4100W, 1099 14th St., NW., Washington, DC 20005; or

2. Submissions via the U.S. Postal Service: Foreign-Trade-Zones Board, U.S. Department of Commerce, FCB—Suite 4100W, 1401 Constitution Ave., NW., Washington, DC 20230.

The closing period for their receipt is August 23, 2004. Rebuttal comments in response to material submitted during the foregoing period may be submitted during the subsequent 15-day period (to September 7, 2004).

A copy of the application and accompanying exhibits will be available for public inspection at the Office of the Foreign-Trade Zones Board's Executive Secretary at the first address listed above, and at the U.S. Department of Commerce Export Assistance Center, 6001 Chatham Center Drive, Suite 100, Savannah, GA 31405.

Dated: June 16, 2004.
Pierre V. Duy,
Acting Executive Secretary.

[FR Doc. 04-14264 Filed 6-22-04; 8:45 am]

BILLING CODE 3510-DS-P